DEPARTMENT OF HEALTH AND HUMAN SERVICES

National Institutes of Health

National Institute of Neurological Disorders and Stroke; Amended Notice of Meeting

Notice is hereby given of a change in the meeting of the National Institute of Neurological Disorders and Stroke Special Emphasis Panel, June 27, 2022, 08:00 a.m. to June 28, 2022, 03:00 p.m., National Institutes of Health, Neuroscience Center, 6001 Executive Boulevard, Rockville, MD 20852 which was published in the Federal Register on June 07, 2022, FR Doc 2022-12174, 87 FR 34694.

This notice is being amended to change the dates of this meeting from June 27-28, 2022, to July 11-12, 2022. The meeting time remains the same. The meeting is closed to the public.

Dated: June 23, 2022.
Tyeshia M. Roberson-Curtis,
Program Analyst, Office of Federal Advisory Committee Policy.

[FR Doc. 2022-13798 Filed 6-28-22; 8:45 am]

BILLING CODE 4140-01-P